DEPARTMENT OF COMMERCE

National Oceanic and Atmospheric Administration

Evaluation of State Coastal Management Program; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold a public meeting to solicit comments on the performance evaluation of the Ohio Coastal Management Program.

DATES: NOAA will consider all written comments received by Friday, October 28, 2022. A public meeting will be held on Wednesday, October 19, 2022, at 4 p.m. eastern daylight time (EDT).

ADDRESSES: Comments may be submitted by one of the following methods:

Email: Ralph Cantral, Evaluator, NOAA Office for Coastal Management, at Ralph.Cantral@noaa.gov.

Written comments received are considered part of the public record, and the entirety of the comment, including the name of the commenter, email address, attachments, and other supporting materials, will be publicly accessible. Sensitive personal information, such as account numbers or Social Security numbers, should not be included with the comment. Comments that are not responsive or that contain profanity, vulgarity, threats, or other inappropriate language will not be considered.

Public Meeting: Provide oral comments during the virtual public meeting on Wednesday, October 19, 2022, at 4 p.m. EDT by registering as a speaker at https://forms.gle/yCaey6vciCKGMKTo7. Please register by Tuesday, October 18, 2022, at 5 p.m. EDT. Upon registration, a confirmation email will be sent. The lineup of speakers will be based on the date and time of registration. One hour prior to the start of the meeting on October 19, 2022, an email will be sent out with a link to the public meeting and information about participating.

FOR FURTHER INFORMATION CONTACT: Ralph Cantral, Evaluator, NOAA Office for Coastal Management, by email at Ralph.Cantral@noaa.gov or by phone at (843) 474-1357. Copies of the previous evaluation findings and the 2016-2020 Assessment and Strategies may be viewed and downloaded on the internet at http://coast.noaa.gov/czm/evaluations/. A copy of the evaluation notification letter and most recent progress report may be obtained upon request by contacting Ralph Cantral.

SUPPLEMENTARY INFORMATION: Section 312 of the Coastal Zone Management Act (CZMA) requires NOAA to conduct periodic evaluations of federally approved coastal management programs and national estuarine research reserves. The evaluation process includes holding one or more public meetings, considering written public comments, and consulting with interested Federal, State, and local agencies and members of the public. During the evaluation, NOAA will consider the extent to which the State of Ohio has met the national objectives, adhered to the management program approved by the Secretary of Commerce, and adhered to the terms of financial assistance under the CZMA. When the evaluation is complete, NOAA's Office for Coastal Management will place a notice in the Federal Register announcing the availability of the final evaluation findings.

Keelin Kuipers,
Deputy Director, Office for Coastal Management, National Ocean Service, National Oceanic and Atmospheric Administration.

[FR Doc. 2022-21136 Filed 9-28-22; 8:45 am]

BILLING CODE 3510-JE-P